DEPARTMENT OF ENERGY

Office of Fossil Energy; Procedural Order Requiring Monthly Reporting

AGENCY: Office of Fossil Energy (FE), Department of Energy (DOE).

ACTION: Notice of amendment to Natural Gas Import and Export Orders.

SUMMARY: DOE is adding a new monthly reporting requirement to existing and future Orders authorizing the import and export of natural gas and liquefied natural gas (LNG).

FOR FURTHER INFORMATION CONTACT: Yvonne Caudillo, Allyson C. Reilly, Office of Natural Gas Regulatory Activities, Office of Oil and Gas Global Security and Supply, Office of Fossil Energy, P.O. Box 44375, Washington, DC 20026-4375, (202) 586-4587, (202) 586-9394.

SUPPLEMENTARY INFORMATION: DOE's Office of Fossil Energy (FE) is delegated the authority to regulate natural gas imports and exports under section 3 of the Natural Gas Act of 1938, 15 U.S.C. 717b. In order to carry out its delegated responsibility, FE requires those persons authorized to import or export natural gas to file reports containing basic information about the scope and nature of the import or export activity. Historically, FE has collected information on a quarterly basis about import and export transactions. That information has been used to monitor North American natural gas trade, which in turn enables the Federal Government to perform market and regulatory analyses; improve the capability of industry and the government to respond to any future energy-related supply problems; and keep the general public informed of international natural gas trade.

DOE has undertaken a Natural Gas Data Collection Initiative to improve the way it gathers and disseminates information about the use and origin of natural gas supplies in the United States. This critical natural gas information will be collected on a monthly basis in addition to the reporting required at the end of each calendar quarter. To facilitate timely reporting, an internet-based reporting option for the monthly reporting has been established. This may be found on the FE Web site at http://www.fe.doe.gov (click on natural gas regulation then on the upper right side in the blue, click on monthly report).

On July 21, 2003, DOE's Energy Information Administration published a Federal Register notice requesting public comment on the proposal to collect import and export data on a monthly basis (68 FR 43101). No comments or requests for further information were received.

Order

In accordance with DOE's Natural Gas Data Collection Initiative and pursuant to section 3 of the Natural Gas Act, it is ordered that:

All importers and exporters with existing authorizations listed in the attached Appendix shall file a report within 30 days following each calendar month, indicating whether imports and/or exports have been made. Monthly reports must be filed whether or not initial deliveries have begun. If imports and/or exports have not been made, a report of “no activity” for that month must be filed. If imports and/or exports have occurred, the report must give the following details: (1) For imports, country of origin; (2) for exports, the country of destination; (3) point(s) of entry and/or exit; and (4) total volume at each point of entry and/or exit for the month. Additionally, for LNG imports and exports the reports must give the following details: (1) Country of origin; (2) point(s) of entry/exit—terminal name; (3) the name(s) of the LNG tanker or number of trucks; (4) landed price in U.S. $ per MMBtu; (5) supplier; (6) total volume in MCF; and (7) the date of import (arrival of ship). [OMB NO.: 1901-0294]

The first monthly report for the reporting period November 1, 2005, through November 30, 2005, required by this Amending Order shall be filed no later than December 30, 2005. All monthly filings shall be made to U.S. Department of Energy, Office of Oil and Gas Global Security and Supply, Attention: Ms. Yvonne Caudillo, P.O. Box 44375, Washington, DC 20026-4375, or on the web site as discussed above.

Issued in Washington, DC, October 11, 2005.
R.F. Corbin,
Manager, Natural Gas Regulatory Activities, Office of Oil and Gas Global Security and Supply, Office of Fossil Energy.

Attachment
Docket No. | Order No. | Company name
86-25-NG | 140# Std | Great Lakes Gas Transmission Limited Partnership.
86-44-NG | 368# Std | Brooklyn Union Gas Company, et al.
86-44-NG | 368A Std | Brooklyn Union Gas Company, et al.
86-44-NG | 368B Std | Brooklyn Union Gas Company, et al.
86-44-NG | 368D Std | Brooklyn Union Gas Company, et al.
86-44-NG | 368E Std | Brooklyn Union Gas Company, et al.
86-44-NG | 368H Std | Brooklyn Union Gas Company, et al.
86-45-NG | 368# Std | Brooklyn Union Gas Company, et al.
86-45-NG | 368A Std | Brooklyn Union Gas Company, et al.
86-45-NG | 368B Std | Brooklyn Union Gas Company, et al.
86-45-NG | 368D Std | Brooklyn Union Gas Company, et al.
86-45-NG | 368E Std | Brooklyn Union Gas Company, et al.
86-46-NG | 368# Std | Brooklyn Union Gas Company, et al.
86-46-NG | 368A Std | Brooklyn Union Gas Company, et al.
86-46-NG | 368B Std | Brooklyn Union Gas Company, et al.
86-46-NG | 368D Std | Brooklyn Union Gas Company, et al.
86-46-NG | 368E Std | Brooklyn Union Gas Company, et al.
86-48-NG | 368# Std | Brooklyn Union Gas Company, et al.
86-48-NG | 368A Std | Brooklyn Union Gas Company, et al.
86-48-NG | 368B Std | Brooklyn Union Gas Company, et al.
86-48-NG | 368C Std | Brooklyn Union Gas Company, et al.
86-48-NG | 368D Std | Brooklyn Union Gas Company, et al.
86-48-NG | 368E Std | Brooklyn Union Gas Company, et al.
86-48-NG | 368H Std | Brooklyn Union Gas Company, et al.
86-48-NG | 425# Std | Brooklyn Union Gas Company, et al.
87-2-NG | 368# Std | Brooklyn Union Gas Company, et al.
87-2-NG | 368A Std | Brooklyn Union Gas Company, et al.
87-2-NG | 368B Std | Brooklyn Union Gas Company, et al.
87-2-NG | 368D Std | Brooklyn Union Gas Company, et al.
87-2-NG | 368E Std | Brooklyn Union Gas Company, et al.
87-2-NG | 368H Std | Brooklyn Union Gas Company, et al.
87-2-NG | 368I Std | Brooklyn Union Gas Company, et al.
87-40-NG | 272# Std | Pan-Alberta Gas (U.S.) Inc.
87-40-NG | 1009A Std | Pan-Alberta Gas (U.S.) Inc.
88-1-NG 01 | 01 Pro | Project Orange Associates, L.P.
88-1-NG | 274# Cnd | Project Orange Associates, L.P.
88-1-NG | 274A Std | Project Orange Associates, L.P.
88-1-NG | 425# Std | Project Orange Associates, L.P.
88-1-NG | 500# Std | Project Orange Associates, L.P.
88-1-NG | 500A Std | Project Orange Associates, L.P.
88-1-NG | 500B Std | Project Orange Associates, L.P.
88-22-LNG | 261# Std | Phillips Alaska Natural Gas Corp. & Marathon Oil Co.
88-22-LNG | 261E Std | Marathon Oil Company.
88-22-LNG | 261F Std | Phillips Alaska Natural Gas Corp. & Marathon Oil Co.
88-31-NG | 264# Std | Great Lakes Gas Transmission Limited Partnership.
88-38-NG | 284# Std | Consumers Power Company.
88-38-NG | 284A Std | Consumers Power Company.
88-39-NG | 305# Cnd | Midland Cogeneration Venture Ltd. Partnership.
88-39-NG | 305A Std | Midland Cogeneration Venture Ltd. Partnership.
88-52-NG | 375# Std | Southeastern Michigan Gas Company.
88-56-NG | 276# Std | Great Lakes Gas Transmission Limited Partnership.
88-56-NG | 276A Std | Great Lakes Gas Transmission Limited Partnership.
88-64-NG | 358# Std | Boundary Gas, Inc.
88-64-NG | 1155# Std | Boundary Gas, Inc.
89-12-NG | 332# Std | Centra Gas Ontario Inc.
89-16-LNG | 322# Std | Distrigas Corporation.
89-24-NG | 352# Cnd | Consolidated Edison Company of New York, Inc.
89-24-NG | 425# Std | Consolidated Edison Company of New York, Inc.
89-26-NG | 381# Cnd | Texas Eastern Transmission Corporation et al.
89-26-NG | 425# Std | Texas Eastern Transmission Corporation et al.
89-26-NG | 425A Std | Texas Eastern Transmission Corporation et al.
89-26-NG | 979# Std | Texas Eastern Transmission Corporation et al.
89-33-NG | 351# Cnd | Niagara Mohawk Power Corporation.
89-33-NG | 351A Std | Niagara Mohawk Power Corporation.
89-54-NG | 446# Std | Orchard Gas Corporation.
89-55-NG | 447# Std | Selkirk Cogeneration Partners, L.P.
89-75-NG | 426# Std | Transco Energy Marketing Company.
89-76-NG | 448# Std | Pawtucket Power Associates Limited Partnership.
89-76-NG | 892# Std | Pawtucket Power Associates Limited Partnership.
89-76-NG | 892A Std | Pawtucket Power Associates Limited Partnership.
90-25-NG | 428# Std | Elizabethtown Gas Company.
90-51-NG | 439# Std | Centra Gas Ontario Inc.
90-51-NG | 439A Std | Centra Gas Ontario Inc.
90-80-NG | 622# Cnd | Dartmouth Power Associates, L.P.
90-80-NG | 622A Std | Dartmouth Power Associates, L.P.
90-80-NG | 622B Std | Dartmouth Power Associates, L.P.
90-92-NG | 494# Cnd | Sumas Cogeneration Company, L.P.
90-92-NG | 494A Std | Sumas Cogeneration Company, L.P.
90-92-NG | 494B Std | Sumas Cogeneration Company, L.P.
90-92-NG | 494C Std | Sumas Cogeneration Company, L.P.
90-92-NG | 494D Std | Sumas Cogeneration Company, L.P.
90-92-NG | 494E Std | Sumas Cogeneration Company, L.P.
91-10-LNG | 261A Std | Phillips Alaska Natural Gas Corp. & Marathon Oil Co.
91-34-NG | 536# Std | Transcanada Pipelines Limited.
91-42-NG | 662# Std | Lockport Energy Associates, L.P.
91-54-NG | 550# Std | Vermont Gas Systems, Inc.
91-54-NG | 550A Std | Vermont Gas Systems, Inc.
91-54-NG | 550B Std | Vermont Gas Systems, Inc.
91-87-NG | 446A Std | Orchard Gas Corporation.
91-92-NG | 368H Std | Commonwealth Gas Company.
91-92-NG | 561# Std | Commonwealth Gas Company.
91-92-NG | 561A Std | Commonwealth Gas Company.
91-116-NG | 736# Std | Encogen Northwest, L.P.
92-13-NG | 756# Std | Selkirk Cogeneration Partners, L.P.
92-13-NG | 756A Std | Selkirk Cogeneration Partners, L.P.
92-24-NG | 690# Std | Salmon Resources Ltd.
92-24-NG | 690A Std | Salmon Resources Ltd.
92-47-NG | 743# Std | New York State Electric & Gas Corporation.
92-70-NG | 725# Std | Saranac Power Partners, L.P.
93-9-NG | 780# Std | Portal Municipal Gas.
93-15-NG | 771# Std | TM Star Fuel Company.
93-34-NG | 795# Std | Transcanada Pipelines Limited.
93-34-NG | 795A Std | Transcanada Pipelines Limited.
93-42-NG | 368F Std | Brooklyn Union Gas Company, et al.
93-85-NG | 857# Std | Granite State Gas Transmission, Inc.
93-85-NG | 857A Std | Granite State Gas Transmission, Inc.
93-120-NG | 892# Std | Pawtucket Power Associates Limited Partnership.
94-7-NG | 929# Std | Brooklyn Navy Yard Cogeneration Partners, L.P.
94-7-NG | 929A Std | Brooklyn Navy Yard Cogeneration Partners, L.P.
94-7-NG | 929B Std | Brooklyn Navy Yard Cogeneration Partners, L.P.
94-31-NG | 938# Std | Chevron Natural Gas Services, Inc.
94-43-NG | 368G Std | The Brooklyn Union Gas Company et. al.
94-43-NG | 368I Std | The Brooklyn Union Gas Company et. al.
94-49-NG | 964# Std | Hermiston Generating Company, L.P.
94-49-NG | 964A Std | Hermiston Generating Company, L.P. Pacificorp.
94-51-NG | 972# Std | United States General Services Administration.
94-64-NG | 978# Std | Bay State Gas Company.
94-65-NG | 977# Std | Northern Utilities, Inc.
94-81-LNG | 261D Std | Phillips Alaska Natural Gas Corp. & Marathon Oil Co.
94-91-LNG | 1042# Std | EcoElectrica, L.P.
95-55-NG | 1075# Std | Canada Imperial Oil Limited.
95-58-NG | 1104# Std | National Steel Corporation.
95-64-NG | 1088# Std | Pittsfield Generating Company, L.P.
95-64-NG | 1088A Std | Pittsfield Generating Company, L.P.
95-65-NG | 1089# Std | Pittsfield Generating Company, L.P.
95-65-NG | 1089A Std | Pittsfield Generating Company, L.P.
95-98-NG | 305B Std | Midland Cogeneration Venture Ltd. Partnership.
95-100-LNG | 1115# Std | Distrigas Corporation.
95-105-NG | 1114# Std | Inland Pacific Energy Services Ltd.
95-106-NG | 1141# Std | Cascade Natural Gas Corporation.
95-111-NG | 1139# Std | Vermont Gas Systems, Inc.
96-2-NG | 1151# Std | Hess Energy Inc.
96-2-NG | 1151A Std | Hess Energy Inc.; Statoil Energy, Inc.
96-2-NG | 1151B Std | Hess Energy Inc.
96-3-NG | 1152# Std | Hess Energy Inc.
96-3-NG | 1152A Std | Hess Energy Inc.; Statoil Energy, Inc.
96-3-NG | 1152B Std | Hess Energy Inc.
96-39-NG | 1182# Std | North Canadian Marketing Corporation.
96-54-NG | 1195# Std | Bear Paw Energy, L.L.C.
96-54-NG | 1195A Std | Bear Paw Energy, L.L.C.
96-60-NG | 1197# Std | Progas U.S.A., Inc.
96-60-NG | 1197A Std | Progas U.S.A., Inc.
96-60-NG | 1197B Std | Progas U.S.A., Inc.
96-61-NG | 1198# Std | Progas U.S.A., Inc.
96-61-NG | 1198A Std | Progas U.S.A., Inc.
96-65-NG | 1206# Std | Progas U.S.A., Inc.
96-65-NG | 1206A Std | Progas U.S.A., Inc.
96-73-NG | 1220# Std | United States Gypsum Company.
96-82-NG | 1254# Std | Engage Energy Canada, L.P.
96-82-NG | 1254A Std | Engage Energy Canada, L.P.
96-99-LNG | 0 1 Pro | Phillips Alaska Natural Gas Corp. & Marathon Oil Co.
96-99-LNG | 0 2 Pro | Phillips Alaska Natural Gas Corp. & Marathon Oil Co.
96-99-LNG | 03 Pro | Phillips Alaska Natural Gas Corp. & Marathon Oil Co.
96-99-LNG | 04 Pro | Phillips Alaska Natural Gas Corp. & Marathon Oil Co.
96-99-LNG | 261F Std | Phillips Alaska Natural Gas Corp. & Marathon Oil Co.
96-99-LNG | 1473# Std | Phillips Alaska Natural Gas Corp. & Marathon Oil Co.
97-28-NG | 1266# Std | Duke Energy Trading & Marketing, L.L.C.
97-28-NG | 1266A Std | Duke Energy Trading & Marketing, L.L.C.
97-35-NG | 1272# Std | United States Gypsum Company.
97-40-NG | 1290# Std | CoEnergy Trading Company.
97-41-NG | 1280# Std | CoEnergy Trading Company.
97-87-NG | 1329# Std | Progas U.S.A., Inc.
97-88-NG | 1326# Std | Progas U.S.A., Inc.
97-89-NG | 1330# Std | Progas U.S.A., Inc.
97-89-NG | 1330A Std | Progas U.S.A., Inc.
97-94-NG | 1352# Std | Androscoggin Energy LLC.
97-94-NG | 1352A Std | Androscoggin Energy LLC.
98-5-NG | 1354# Std | Tenaska Washington Partners, L.P.
98-8-NG | 1361# Std | Vermont Gas Systems, Inc.
98-20-NG | 1382# Std | Transcanada Gas Services Inc.
98-30-NG | 1385# Std | Rock-Tenn Company, Mill Division, Inc.
98-85-NG | 1432# Std | Husky Gas Marketing Inc.
98-85-NG | 1432A Std | Husky Gas Marketing Inc.
98-98-NG | 1445# Std | Boston Gas Company.
99-26-NG | 1479# Std | Progas U.S.A., Inc.
99-27-NG | 1484# Std | City of Duluth, Minnesota.
99-48-NG | 1507# Std | Milford Power Company, LLC.
99-70-NG | 305C Std | Midland Cogeneration Venture Ltd. Partnership.
99-92-NG | 1543# Std | Transcanada Gas Services Inc.
00-10-NG | 1573# Std | RDO Foods Company.
01-15-NG | 1678# Std | Energia Azteca X, S. de R.l. de C.V.
01-28-NG | 1694# Std | H.Q. Energy Services (U.S.) Inc.
02-15-NG | 1765# Std | Midland Cogeneration Venture Ltd. Partnership.
03-3-NG | 1850# Std | AIG Energy Trading Inc.
03-23-NG | 1869# Std | Pan-Alberta Gas (U.S.) Inc.
03-25-LNG | 1872# Std | Duke Energy Marketing America, LLC.
03-29-NG | 1876# Std | Alliance Energy Services, LLC.
03-30-NG | 1877# Std | TransAlta Chihuahua S.A. de C.V.
03-33-NG | 1882# Std | Husky Gas Marketing Inc.
03-34-NG | 1880# Std | ONEOK Energy Marketing and Trading Company, L.P.
03-35-NG | 1881# Std | Distribuidora de Gas Natural de Mexicali.
03-36-NG | 1883# Std | Weyerhaeuser Company.
03-37-NG | 1890# Std | Emera Energy Services Inc.
03-38-LNG | 1885# Std | Padre Valencia Energy Corporation.
03-39-NG | 1884# Std | Nstar Gas Company.
03-40-NG | 1887# Std | Oxy Energy Canada, LLC.
03-42-NG | 1894# Std | ConocoPhillips Energy Marketing Corp.
03-43-NG | 1888# Std | Sierra Pacific Power Company.
03-44-NG | 1889# Std | ConocoPhillips Company.
03-46-NG | 1893# Std | Western Gas Resources, Inc.
03-48-NG | 1895# Std | Tenaska Marketing Ventures.
03-51-NG | 1898# Std | Cinergy Marketing & Trading, L.P.
03-52-NG | 1899# Std | Pacific Gas & Electric Company.
03-54-NG | 1901# Std | Avista Energy, Inc.
03-55-NG | 1900# Std | Northeast Gas Markets L.L.C.
03-56-NG | 1902# Std | Masspower.
03-57-NG | 1907# Std | Wisconsin Public Service Corporation.
03-58-NG | 1904# Std | Energy Trust Marketing Ltd.
03-59-NG | 1903# Std | FUSI LLC.
03-59-NG | 1903A Std | FUSI LLC.
03-60-NG | 1917# Vac | Reliant Energy Services, Inc.
03-61-NG | 1905# Std | Energetix, Inc.
03-62-NG | 1906# Std | Reef Ventures, L.P.
03-63-NG | 1908# Std | Middleton Energy Management Ltd.
03-64-NG | 1909# Std | American Crystal Sugar Company.
03-65-NG | 1910# Std | Dynegy Marketing and Trade.
03-66-NG | 1911# Std | Enbridge Gas Services (U.S.) Inc.
03-67-NG | 1912# Std | Omimex Canada, Ltd.
03-68-NG | 1913# Std | Yankee Gas Services Company.
03-69-NG | 1918# Std | Sempra Energy Solutions.
03-71-NG | 1919# Std | Vermont Gas Systems, Inc.
03-72-NG | 1916# Std | Dominion Energy Clearinghouse Canada Partnership.
03-73-NG | 1915# Std | Pittsfield Generating Company, L.P.
03-74-NG | 1920# Std | Phibro Inc.
03-75-NG | 1921# Std | Rochester Gas & Electric Corporation.
03-76-LNG | 1932# Std | BG LNG Services, LLC.
03-77-LNG | 1926# Std | BG LNG Services, LLC.
03-78-NG | 1922# Std | Stand Energy Corporation.
03-79-NG | 1923# Std | Advance Energy, Inc.
03-80-NG | 1925# Std | Peoples Energy Wholesale Marketing, LLC.
03-80-NG | 1925A Std | PERC Canada, Inc.
03-81-NG | 1927# Std | Direct Energy Marketing Inc.
03-83-NG | 1928# Std | Direct Energy Marketing Limited.
03-84-NG | 1929# Std | Enbridge Gas Distribution Inc.
03-85-NG | 1930# Std | Williams Power Company, Inc.
03-86-NG | 1931# Std | Suncor Energy Inc. and Suncor Energy Marketing Inc.
03-87-NG | 1935# Std | Panhandle Eastern Pipe Line Company.
04-1-NG | 1933# Std | Irving Oil Terminals Inc.
04-2-NG | 1934# Std | NYSEG Solutions, Inc.
04-3-NG | 1936# Std | Puget Sound Energy, Inc.
04-5-NG | 1944# Std | Petrocom Energy Group, Ltd.
04-7-NG | 1954# Std | Exco Energy Inc.
04-9-NG | 1937# Std | EPCOR Merchant and Capital (U.S.) Inc.
04-11-NG | 1942# Std | Burlington Resources Canada Marketing Ltd.
04-12-NG | 1945# Std | Devon Canada Corporation.
04-14-NG | 1943# Std | ONEOK Energy Services Canada, Ltd.
04-15-LNG | 1947# Std | BG LNG Services, LLC.
04-17-NG | 1951# Std | Sequent Energy Management, L.P.
04-18-NG | 1948# Std | Entergy-Koch Trading Canada, ULC.
04-23-NG | 1958# Std | Essex Gas Company.
04-26-NG | 1960# Std | Brooklyn Union Gas Company.
04-27-NG | 1961# Std | Keyspan Gas East Corporation.
04-31-NG | 1955# Std | Central Lomas de Real, S.A. de C.V.
04-32-NG | 1968# Std | EnergyNorth Natural Gas, Inc.
04-33-NG | 1962# Std | EnergyNorth Natural Gas, Inc.
04-34-NG | 1956# Std | Seminole Canada Gas Company.
04-35-NG | 1957# Std | Gasoducto Rosarito, S. de R.l. de C.V.
04-36-NG | 1963# Std | Duke Energy Marketing Canada Corp.
04-37-NG | 1964# Std | Energy Source Canada, Inc.
04-38-NG | 1965# Std | LD Energy Canada LP.
04-39-LNG | 1977# Std | BG LNG Services, LLC.
04-39-LNG | 1977A Std | BG LNG Services, LLC.
04-40-LNG | 1975# Std | BG LNG Services, LLC.
04-40-LNG | 1975A Std | BG LNG Services, LLC.
04-41-NG | 1972# Std | OGE Energy Resources, Inc.
04-42-LNG | 1974# Std | Shell NA LNG LLC.
04-43-NG | 1973# Std | Northwest Natural Gas Company.
04-44-NG | 1976# Std | NJR Energy Services Company.
04-46-NG | 1978# Std | Anadarko Energy Services Company.
04-47-NG | 1983# Std | UBS AG, London Branch.
04-48-NG | 1980# Std | Indeck-Yerkes Limited Partnership.
04-49-NG | 1979# Std | Indeck Oswego Limited Partnership.
04-50-NG | 1981# Std | New York State Electric & Gas Corporation.
04-51-NG | 1982# Std | WGR Canada, Inc.
04-53-NG | 1984# Std | National Fuel Resources, Inc.
04-54-NG | 1985# Std | West Texas Gas, Inc.
04-57-NG | 1988# Std | St. Lawrence Gas Company, Inc.
04-58-LNG | 1991# Std | Tractebel LNG North America Service Corporation.
04-60-NG | 1992# Std | Portland General Electric Company.
04-61-NG | 1993# Std | Premstar Energy Canada Ltd.
04-62-LNG | 1995# Std | LNGJ USA Inc.
04-63-LNG | 1994# Std | Alea Trading LLC.
04-64-NG | 1996# Std | First Indigenous Depository Company LLC.
04-65-NG | 1998# Std | Power City Partners, L.P.
04-70-NG | 2001# Std | Avista Corporation.
04-73-NG | 2005# Std | Empire Natural Gas Corporation.
04-74-NG | 2006# Std | Marathon Oil Company.
04-75-NG | 2007# Std | Alcoa Inc.
04-76-NG | 2008# Std | IGI Resources, Inc.
04-77-LNG | 2009# Std | BP Energy Company.
04-78-NG | 2011# Std | Select Energy, Inc.
04-79-NG | 2015# Std | Select Energy New York, Inc.
04-80-NG | 2010# Std | Union Gas Limited.
04-81-NG | 2012# Std | Concord Energy LLC.
04-82-NG | 2013# Std | Central Valle Hermoso, S.A. de C.V.
04-83-NG | 01 Err | San Diego Gas & Electric Company.
04-83-NG | 2014# Std | San Diego Gas & Electric Company.
04-84-NG | 2017# Std | Merrill Lynch Commodities, Inc.
04-85-NG | 2016# Std | BP Canada Energy Marketing Corporation.
04-87-NG | 2023# Std | Boise White Paper, L.L.C.
04-88-NG | 2019# Std | Cook Inlet Energy Supply L.L.C.
04-89-NG | 2021# Std | Premstar Energy Canada LP.
04-90-NG | 2020# Std | CoEnergy Trading Company.
04-93-NG | 2024# Std | TransCanada Energy Ltd.
04-94-NG | 2037# Std | Hunt Oil Company of Canada, Inc.
04-99-NG | 2032# Std | Glendale Water and Power.
04-104-LNG | 2040# Std | Marathon LNG Marketing LLC.
04-108-NG | 2043# Std | Cannat Energy Inc.
04-111-NG | 2039# Std | Duke Energy Trading & Marketing, L.L.C.
04-112-NG | 2038# Std | Regent Resources Ltd.
04-113-NG | 2042# Std | Montana-Dakota Utilities Company.
04-114-NG | 2041# Std | Alliance Canada Marketing L.P.
04-115-NG | 2044# Std | Sempra Energy Resources.
04-116-NG | 2048# Std | Northwestern Corporation dba North Western Energy.
04-117-NG | 2056# Std | Engage Energy Canada, L.P.
04-120-NG | 2049# Std | Pemex Gas Y Petroquimica Basica.
04-121-NG | 2051# Std | Cascade Natural Gas Corporation.
04-122-NG | 2053# Std | Keyspan Gas East Corporation.
04-123-NG | 2057# Std | Nexen Marketing U.S.A. Inc.
04-124-NG | 2062# Std | Northern Utilities, Inc.
04-125-NG | 2061# Std | Boston Gas Company.
04-127-NG | 2054# Std | BP Energy Company.
04-128-NG | 2058# Std | Termoelectrica de Mexicali, S. de R.L. de C.V.
04-129-NG | 2059# Std | Boss Energy, Ltd.
04-130-NG | 2060# Std | Texas Eastern Transmission, LP.
04-131-NG | 2064# Std | Abitibi-Consolidated Company of Canada.
04-132-NG | 2063# Std | Dominion Exploration Canada Ltd.
05-1-NG | 2065# Std | Selkirk Cogeneration Partners, L.P.
05-2-NG | 2067# Std | Sprague Energy Corporation.
05-3-NG | 2066# Std | Fortuna (US) L.P.
05-4-LNG | 2068# Std | Nitogo Management, Inc.
05-5-NG | 2069# Std | Petro-Canada Hydrocarbons Inc.
05-6-NG | 2071# Std | Powerex Corporation.
05-7-NG | 2070# Std | Chehalis Power Generating, L.P.
05-8-NG | 2074# Std | Total Gas & Power North America, Inc.
05-9-NG | 2072# Std | National Fuel Gas Distribution Corporation.
05-10-LNG | 2073# Std | LNG Partners, LLC.
05-11-NG | 2075# Std | Cargill, Incorporated.
05-12-LNG | 2077# Std | Statoil Natural Gas LLC.
05-14-NG | 2078# Std | Bay State Gas Company.
05-15-NG | 2076# Std | Progas U.S.A., Inc.
05-16-NG | 2080# Std | H.Q. Energy Services (U.S.) Inc.
05-17-NG | 2081# Std | Avista Energy, Inc.
05-18-NG | 2082# Std | Sempra Energy Trading Corporation.
05-19-NG | 2083# Std | Eagle Energy Partners, I, L.P.
05-20-NG | 2084# Std | Cinergy Marketing & Trading, L.P.
05-23-NG | 2086# Std | Mexicana de Cobre, S.A. de C.V.
05-24-NG | 2104# Std | Ocean State Power II.
05-25-NG | 2103# Std | Ocean State Power I.
05-26-NG | 2087# Std | Goldendale Energy Center, LLC.
05-27-NG | 2105# Std | Ocean State Power II.
05-28-NG | 2089# Std | KeySpan-Ravenswood, LLC.
05-45-LNG | 2116# Std | Excelerate Gas Marketing, LLC.
05-46-NG | 2111# Std | ECOGAS Mexico.
05-47-NG | 2113# Std | Pacific Summit Energy LLC.
05-51-NG | 2108# Std | ConocoPhillips Energy Marketing Corp.
05-53-LNG | 2112# Std | Kinetic LNG.
05-54-NG | 2114# Std | Ontario Energy Savings L.P.
05-55-NG | 2115# Std | Eagle Energy Marketing Canada, L.P.
05-56-NG | 2117# Std | ONEOK Energy Services Company, L.P.
05-57-NG | 2119# Std | Husky Gas Marketing Inc.
05-58-NG | 2118# Std | TransAlta Energy Marketing Corp.
05-59-NG | 2121# Std | Cinergy Canada, Inc.
05-60-NG | 2120# Std | Cinergy Marketing & Trading, L.P.
05-61-NG | 2122# Std | ConocoPhillips Company.
05-62-LNG | 2123# Std | Enterprise Products Operating L.P.
05-63-NG | 2124# Std | OXY Energy Canada, Inc.
05-64-NG | 2125# Std | TXU Portfolio Management, L.P.
05-65-NG | 2127# Std | Portland General Electric Company.
05-66-NG | 2126# Std | Wisconsin Public Service Corporation.
05-67-NG | 2128# Std | Pacific Gas and Electric Company.
05-68-NG | 2129# Std | Public Utility District No. 1 of Clark County, Washington.
05-72-NG | 2130# Std | Emera Energy Services, Inc.
05-52-NG | 2109# Std | OXYEnergy Canada LLC.

[FR Doc. 05-20698 Filed 10-14-05 8:45 am]

BILLING CODE 6450-01-P